OFFICE OF THE UNITED STATES TRADE REPRESENTATIVE

Revised Fiscal Year 2008 Tariff-Rate Quota Allocations for Refined Sugar—Re-allocation of Refined Sugar Previously Assigned to Mexico

AGENCY: Office of the United States Trade Representative.

ACTION: Notice.

SUMMARY: The Office of the United States Trade Representative (USTR) is providing notice of a revision in the Fiscal Year (FY) 2008 Tariff-Rate Quota (TRQ) allocation for imported refined sugar for the period August 13 through December 31, 2008. The USTR is re-allocating the portion of the increase in the refined sugar TRQ initially allocated to Mexico on August 13, 2008 to the global portion of the refined sugar TRQ, subject to certain conditions.

DATES: Effective Date: October 30, 2008.

ADDRESSES: Inquiries may be mailed or delivered to Leslie O'Connor, Director of Agricultural Affairs, Office of Agricultural Affairs, Office of the United States Trade Representative, 600 17th Street, NW., Washington, DC 20508.

FOR FURTHER INFORMATION CONTACT: Leslie O'Connor, Office of Agricultural Affairs, telephone: 202-395-6127 or facsimile: 202-395-4579.

SUPPLEMENTARY INFORMATION: Pursuant to Additional U.S. Note 5 to Chapter 17 of the Harmonized Tariff Schedule of the United States (HTS), the United States maintains a tariff-rate quota for imports of refined sugar.

Section 404(d)(3) of the Uruguay Round Agreements Act (19 U.S.C. 3601(d)(3)) authorizes the President to allocate the in-quota quantity of a tariff-rate quota for any agricultural product among supplying countries or customs areas. The President delegated this authority to the USTR under Presidential Proclamation 6763 (60 FR 1007). Pursuant to this Proclamation, the USTR may modify previously established allocations as he or she finds appropriate in carrying out the international rights and obligations of the United States and promoting the economic interests of the United States.

In response to tight market conditions, on August 6, 2008, the Secretary of Agriculture increased the in-quota quantity of the tariff-rate quota for refined sugar for FY 2008 by 272,155 metric tons raw value (MTRV) (equivalent of 300,000 short tons raw value) and extended the period in which the sugar could be entered until December 31, 2008.

On August 13, 2008, the USTR allocated this TRQ volume, with a total of 40,000 MTRV allocated to Canada, 68,278 MTRV allocated to Mexico, and the remaining 163,877 MTRV allocated to a global tariff-rate quota, which may be supplied by any country on a first-come, first-served basis, subject to any other provision of law.

The U.S. market for sugar, particularly for refined sugar, remains tight as shown by the historically low 6.0 percent ending stocks-to-use ratio for FY 2009 projected in USDA's October World Agricultural Supply and Demand Estimates report. As a result, the U.S. Government consulted with the Government of Mexico as to whether it intends to fill its allocated portion of the August 2008 increase. The Government of Mexico has informed the Government of the United States that Mexico will continue to export sugar under the duty-free access provided by the North American Free Trade Agreement and thus will not use the portion of the WTO refined sugar TRQ allocated to Mexico and it is available for re-allocation by the United States.

The USTR hereby re-allocates that portion, 68,278 MTRV, to the global refined sugar TRQ, which may be supplied by any country on a first-come, first-served basis, subject to any other provision of law. With this reallocation, the global portion of the FY 2009 refined sugar tariff-rate quota now amounts to 239,245 MTRV. No certificate of quota eligibility is required for sugar entering under this global tariff-rate quota.

On October 27, 2008, the Secretary of Agriculture, pursuant to his authority under 15 CFR pt. 2011.110 to the set terms, limitations, and conditions for entry of refined sugar such as this, determined that 28,278 MTRV of the re-allocated portion of the refined sugar TRQ shall be eligible to enter upon publication of a Federal Register notice by the USTR. Of the remainder, 10,000 MTRV may enter 14 days after publication; 10,000 MTRV 28 days after publication; 10,000 MTRV 42 days after publication; and 10,000 MTRV 56 days after publication. If any of these dates fall on a weekend or Federal holiday, the TRQ will open on the next business day.

Susan C. Schwab,
United States Trade Representative.

[FR Doc. E8-25937 Filed 10-29-08; 8:45 am]

BILLING CODE 3190-W9-P